NATIONAL AERONAUTICS AND SPACE ADMINISTRATION

[Notice: 24-079]

NASA Advisory Council; Aeronautics Committee; Meeting

AGENCY: National Aeronautics and Space Administration.

ACTION: Notice of meeting.

SUMMARY: In accordance with the Federal Advisory Committee Act, the National Aeronautics and Space Administration (NASA) announces a meeting of the Aeronautics Committee of the NASA Advisory Council (NAC). This meeting will be held for the purpose of soliciting, from the aeronautics community and other persons, research and technical information relevant to program planning.

DATES: Wednesday, November 20, 2024, 8:30 a.m.-4:30 p.m., ET.

FOR FURTHER INFORMATION CONTACT: Ms. Irma Rodriguez, Designated Federal Officer, Aeronautics Research Mission Directorate, NASA Headquarters, Washington, DC 20546, irma.c.rodriguez@nasa.gov, 202-358-0984.

SUPPLEMENTARY INFORMATION: This meeting will be available to the public online. Dial-in audio teleconference and webcast details to watch the meeting remotely will be available on the NASA Advisory Council Aeronautics Committee website at https://www.nasa.gov/nasa-advisory-council-aeronautics-committee/. Enter the meeting as a guest and type your name and affiliation.

Note: If dialing in, please “mute” your telephone.

The agenda for the meeting includes the following topics:

—Advanced Air Vehicles Program (AAVP) Strategic Assessment/Studies Workforce Efforts

—Advanced Aircraft Concepts for Environmental Sustainability (AACES) 2050 Awards

—Electrified Powertrain Flight Demonstration (EPFD)

—2023 Committee Findings Response

It is imperative that the meeting be held on these dates to the scheduling priorities of the key participants. For more information, please visit at https://www.nasa.gov/nasa-advisory-council-aeronautics-committee/.

Jamie M. Krauk,
Advisory Committee Management Officer, National Aeronautics and Space Administration.

[FR Doc. 2024-26515 Filed 11-13-24; 8:45 am]

BILLING CODE 7510-13-P